DEPARTMENT OF COMMERCE

National Oceanic and Atmospheric Administration

50 CFR Part 622

[Docket No. 121004515-3608-02]

RIN 0648-XB540

Fisheries of the Caribbean, Gulf of Mexico, and South Atlantic; 2021 Re-Opening of Commercial Harvest for South Atlantic Red Snapper

AGENCY: National Marine Fisheries Service (NMFS), National Oceanic and Atmospheric Administration (NOAA), Commerce.

ACTION: Temporary rule; reopening.

SUMMARY: NMFS announces the reopening of the commercial sector for red snapper in the exclusive economic zone (EEZ) of the South Atlantic through this temporary rule. The most recent commercial landings of red snapper indicate that the commercial annual catch limit (ACL) for the 2021 fishing year has not yet been reached. Therefore, NMFS reopens the commercial sector for red snapper in the South Atlantic EEZ for 4 calendar days to allow the commercial ACL to be reached, while minimizing the risk of the commercial ACL being exceeded.

DATES: This rule is effective 12:01 a.m., local time, November 2, 2021, until 12:01 a.m., local time, November 6, 2021.

FOR FURTHER INFORMATION CONTACT: Mary Vara, NMFS Southeast Regional Office, telephone: 727-824-5305, email: mary.vara@noaa.gov.

SUPPLEMENTARY INFORMATION: The snapper-grouper fishery of the South Atlantic includes red snapper and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The commercial ACL for red snapper in the South Atlantic is 124,815 lb (56,615 kg), round weight, as specified in 50 CFR 622.193(y)(1).

Under 50 CFR 622.193(y)(1), NMFS is required to close the commercial sector for red snapper when landings reach, or are projected to reach, the commercial ACL by filing a notification to that effect with the Office of the Federal Register.

NMFS previously projected that the commercial ACL for South Atlantic red snapper for the 2021 fishing year would be reached by September 14, 2021. Accordingly, NMFS published a temporary rule in the Federal Register to implement accountability measures to close the commercial sector for red snapper in the South Atlantic EEZ effective from September 14, 2021, through December 31, 2021 (86 FR 50861; September 13, 2021).

However, recent landings data for red snapper indicate that the commercial ACL has not been yet been reached. Consequently, and in accordance with 50 CFR 622.8(c), NMFS temporarily reopens the commercial sector for red snapper effective at 12:01 a.m. on November 2, 2021. The commercial sector will remain open for 4 calendar days, and the commercial trip limit remains at 75 lb (34 kg), gutted weight (50 CFR 622.191(a)(9)). Reopening the commercial sector for this limited time allows an additional opportunity for the commercial sector to harvest the commercial ACL for red snapper, while minimizing the risk of the commercial ACL being exceeded. For the 2022 fishing year, unless otherwise specified, the commercial season will begin on the second Monday in July (50 CFR 622.183(b)(5)(i)).

The operator of a vessel with a valid commercial vessel permit for South Atlantic snapper-grouper having red snapper on board must have landed and bartered, traded, or sold such red snapper prior to 12:01 a.m., eastern time, on November 6, 2021. Because the recreational sector closed on July 12, 2021 (86 FR 30393; June 8, 2021), the recreational bag and possession limit for red snapper in or from South Atlantic federal waters is zero. After the commercial sector reopening and subsequent closure that is effective on November 6, 2021, all harvest and possession of red snapper in or from the South Atlantic EEZ is prohibited for the remainder of the 2021 fishing year and until the fishery opens for the 2022 fishing year.

On and after November 6, 2021, all sale or purchase of red snapper is prohibited. This prohibition on the harvest, possession, sale or purchase applies in the South Atlantic on a vessel for which a valid Federal commercial or charter vessel/headboat permit for South Atlantic snapper-grouper has been issued, regardless if such species were harvested or possessed in state or Federal waters (50 CFR 622.193(y)(1) and 622.181(c)(2)).

Classification

NMFS issues this action pursuant to section 305(d) of the Magnuson-Stevens Act. This action is required by 50 CFR 622.193(y)(1), which was issued pursuant to section 304(b) of the Magnuson-Stevens Act, and is exempt from review under Executive Order 12866.

Pursuant to 5 U.S.C. 553(b)(B), the NMFS Assistant Administrator (AA) finds good cause to waive prior notice and an opportunity for public comment on this action, as notice and comment are unnecessary and contrary to the public interest. Such procedures are unnecessary because the rule that established the commercial season, ACL, and accountability measure for red snapper has already been subject to notice and comment, and all that remains is to notify the public of the reopening. Such procedures are contrary to the public interest because NMFS's updated information shows that the commercial harvest was prematurely closed, and this action should be immediately implemented to allow the commercial fishers the opportunity to harvest the commercial ACL over the 4-day reopening period.

For the aforementioned reasons, the AA also finds good cause to waive the 30-day delay in the effectiveness of this action under 5 U.S.C. 553(d)(3).

Authority: 16 U.S.C. 1801 et seq.

Dated: October 28, 2021.
Jennifer M. Wallace,
Acting Director, Office of Sustainable Fisheries, National Marine Fisheries Service.

[FR Doc. 2021-23863 Filed 10-28-21; 4:15 pm]

BILLING CODE 3510-22-P